DEPARTMENT OF TRANSPORTATION

Federal Aviation Administration

14 CFR Part 73

[Docket No. FAA-2020-0755; Airspace Docket No. 19-AAL-83]

RIN 2120-AA66

Proposed Amendment of R-2206 and Establishment of Restricted Areas R-2206B, R-2206C, R-2206D, R-2206E, R-2206F, and R-2206G; Clear, AK

AGENCY: Federal Aviation Administration (FAA), Department of Transportation (DOT).

ACTION: Notice of proposed rulemaking (NPRM).

SUMMARY: This action proposes to rename the established restricted areas R-2206 to R-2206A and establish six new restricted areas R-2206B, R-2206C, R-2206D, R-2206E, R-2206F, and R-2206G, over the Clear Air Force Station (Clear AFS) at Clear, AK. The United States Air Force (USAF) on behalf of the Missile Defense Agency (MDA) requested this action to protect aircraft from hazardous High-Intensity Radiated Field (HIRF) produced by the Long Range Discrimination Radar (LRDR) at Clear AFS. LRDR contributes to the MDA's mission of developing and deploying a layered Department of Defense (DoD) Ballistic Missile Defense System (BMDS) to defend the United States from ballistic missile attacks of all ranges in all phases of flight. The proposed restricted areas are necessary to protect aviation from the hazardous HIRF and segregate non-participating aircraft.

DATES: Comments must be received on or before April 26, 2021.

ADDRESSES: Send comments on this proposal to the U.S. Department of Transportation, Docket Operations, 1200 New Jersey Avenue SE, West Building Ground Floor, Room W12-140, Washington, DC 20590-0001; telephone: (800) 647-5527, or (202) 366-9826. You must identify FAA Docket Number FAA-2020-0755; Airspace Docket No. 19-AAL-83 at the beginning of your comments. You may also submit comments through the internet at https://www.regulations.gov.

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code (U.S.C.). Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish restricted airspace at Clear, AK, to protect aviation from activities deemed hazardous to nonparticipating aircraft.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket Number FAA-2020-0755; Airspace Docket No. 19-AAL-83) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket FAA-2020-0755; Airspace Docket No. 19-AAL-83.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Western Service Center, Operations Support Group, Federal Aviation Administration, 2200 South 216th St., Des Moines, WA 98198.

Background

History of R-2206 and Clear Airport, AK

R-2206 was initially established as R-20 for a limited duration effective January 1, 1961 (25 FR 12174), over the Clear AFS, at Clear, AK, to protect the National Airspace System (NAS) while a potential radiation hazard caused by the Ballistic Missile Early Warning System (BMEWS) was assessed by the USAF. The designation of R-2206 was later amended to extend the duration for an indefinite period in May 1962 (27 FR 4553) due to ongoing concern regarding the radiation hazard associated with BMEWS.

Initially established for private use by the military in support of the BMEWS mission, Clear Airport (PACL) is located less than ½ Nautical Mile (NM) from the eastern boundary of R-2206. The airport was leased by the Secretary of the Air Force to the State of Alaska on December 20, 1974. The FAA performed an airspace review and issued a letter of “no objection” to convert the airport from private to public use on January 20, 1976.¹ Subsequently, the land (1,814 acres) was declared surplus excess by the USAF and conveyed to the State of Alaska in the late 1980s. PACL has remained in its original location since being converted to public use. The FAA did not object to the proximity of R-2206 to the airport when it was converted to a public use airport, because at the time of conversion, there was no established standard to separate restricted areas and public use airports. The minimum standard for exclusion of airspace 1,500 feet AGL and below within a 3 NM radius of airports available for public use was established in the September 16, 1993, edition of FAA Order JO 7400.2, Procedures for Handling Airspace Matters.² The FAA therefore considers the original R-2206 as grand-fathered under the “1,500AGL/3NM” restricted area exclusion in FAA Order JO 7400.2.³

¹ A copy of this letter has been placed in the docket for this rulemaking.

² The current version of this Order is accessible at: https://www.faa.gov/documentLibrary/media/Order/7400.2M_Bsc_w_Chg_1_2_dtd_7_16_20.pdf. See sub-section 23-1-4, Restricted Area Floor.

³ The FAA intends to revise FAA Order JO 7400.2 to reflect this grand-fathering policy.

What drove MDAs LRDR to Clear AK?

Section 235(a)(1) of the National Defense Authorization Act (NDAA) for Fiscal Year (FY) 2014 required MDA to deploy a LRDR to protect the United States against long-range ballistic missile threats from the Democratic People's Republic of Korea and to locate the LRDR “at a location optimized to support the defense of the homeland of the United States.” Public Law 113-66; 10 U.S.C. 2431 (Dec. 26, 2013). Section 235(b)(1) of the NDAA for FY 2014 also required the Secretary of Defense to ensure capability “to deploy additional tracking and discrimination sensor capabilities to support the defense of the homeland of the United States from future long-range ballistic missile threats that emerge from Iran.”

Section 1684 of the NDAA for FY 2016 expressed “the sense of Congress that additional missile defense sensor discrimination capabilities are needed to enhance the protection of the United States homeland against potential long-range ballistic missiles from Iran that, according to the Department of Defense, could soon be obtained by Iran as a result of its active space launch program.” Public Law 114-92; 10 U.S.C. 2431 (Jan. 6, 2015). Moreover, Sec. 1684(d)(1) of the NDAA for FY 2016 established a deadline for deployment of a defensive system by December 31, 2020.

After a detailed evaluation of cost, schedule, and performance as well as other mission related factors, the DoD determined that Clear AFS was the preferred site for the LRDR and designated the USAF as the lead service for LRDR.

What is the mission of LRDR?

The mission of the LRDR program is to define, develop, acquire, test, field, and sustain the LRDR as an element of the DoD BMDS in support of the Ground-Based Midcourse Defense (GMO) program's Homeland Defense Capability. The LRDR will provide persistent long-range midcourse discrimination, precision tracking, and hit assessment to support the GMO capability against long-range missile threats originating from North Korea and Iran. LRDR contributes to MDA's mission of developing and deploying a layered BMDS to defend the United States from ballistic missile attacks of all ranges in all phases of flight. LRDR's improved discrimination capability increases the defensive capacity of the homeland defense interceptor inventory by enabling the conservation of ground-based interceptors. LRDR also supports additional DoD mission areas such as Space Situational Awareness and Intelligence Data Collection. Changes in operational posture due to the evolving threat, which would result in LRDR deployment with unacceptable levels of HIRF exposure for aviation, necessitate the requirement for additional restricted airspace to support LRDR's critical national defense mission at Clear AFS.

USAF Proposal to the FAA

By memorandum dated September 30, 2019, the USAF submitted a proposal to the FAA to establish two new restricted areas in the vicinity of Clear AFS, to protect the NAS from the HIRF produced by the LRDR. The proposed restricted airspace requires lateral and vertical limits larger than the current R-2206 to support the deployment of the DoD's LRDR to meet increased warfighter defense and readiness postures. This proposal would maintain the existing restricted area R-2206 in its current configuration but rename it R-2206A, and would supplement this area with six new restricted areas designated R-2206B, R-2206C, R-2206D, R-2206E, R-2206F, and R-2206G. This proposal would exclude airspace 1,500 feet AGL and below within a 3 NM radius of PACL for the new restricted areas, with exceptions. The exceptions would limit activation of lower altitude restricted areas near PACL airport (i.e., proposed R-2206D and R-2206E) to three times a week for two hours, and other times by Notice to Airmen (NOTAM). The FAA identified the need for one of the new restricted areas (i.e., R-2206F) that provides an additional 1,100 feet of navigable airspace along Parks Highway to the Northeast of Clear, AK. This additional restricted area would allow for a visual route following a known landmark during normal operations. The addition of the new restricted area to the proposal lead the FAA to re-letter the proposed restricted areas for a more logical sequence: From low to high on the west side and then from low to high on the east side.

For purposes of this rulemaking, the FAA has approved a deviation from the “1,500AGL/3NM” restricted area exclusion standard in paragraph 23-1-4-c of FAA JO 7400.2 for this USAF restricted area proposal, given the extraordinary nature of the LRDR national defense mission required by Congress, the limited citing options available to the USAF to achieve its mission, and the FAA's ability to identify and implement airspace safety and access mitigations at Clear, Alaska.

As previously explained, the NDAA for FY 2014 required MDA to deploy a LRDR “at a location optimized to support the defense of the homeland of the United States.” ⁴ Moreover, MDA was subsequently directed to deploy the system by December 31, 2020. The FY2016 NDAA created the LRDR program of record and required “in a location optimized to support the defense of the homeland of the United States from emerging long-range ballistic missile threats from Iran.” ⁵ To support implementation of this mission, the MDA narrowed the LRDR site selection from 50 possible locations to two locations in Alaska based on evaluative criteria that included, construction and schedule timelines in light of the NDAA mandate, mission assurance, impacts to existing civilian and military infrastructure, and other resource considerations. Of the two remaining sites, only Clear AFS met all of the levied LRDR requirements. The alternative option in Alaska, Eareckson AFS, was ruled out due to remote geographical concerns, which added unacceptable risk to timely and successful deployment as compared to Clear AFS. Moreover, the MDA concluded that the Clear AFS location in Central Alaska offered expanded engagement space necessary to fulfill the LRDR mission. This additional engagement space affords more visibility of hostile threat complexes and greater time to track, discriminate and target lethal incoming objects and results in a much greater probability of successful target intercept. The siting recommendation of Clear AFS was approved in 2016 by the USAF and funding for LRDR at Clear AFS was approved in the FY17 National Defense Authorization Act.⁶

⁴ Public Law 113-66; 10 U.S.C. 2431 (Dec. 26, 2013).

⁵ Public Law 114-92; 10 U.S.C. 2431 (Jan. 6, 2015).

⁶ Public Law 114-328; 10 U.S.C. 2431 (Dec. 23, 2016).

The FAA supports a limited deviation in this NPRM based upon the FAA's ability to balance successfully the national defense interests of the LRDR system against the optimum use of airspace and ability to ensure safe operation of the NAS during LRDR deployments. Indeed, the DoD proposal incorporates limited activation times for the proposed restricted areas that do not meet the “1,500AGL/3NM” restricted area exclusion standard (i.e., proposed R-2206D and R-2206E), which would be reserved for scheduled calibration of the LRDR and real world emergency or extraordinary events. In usual defensive posture, all active restricted areas would comply with the “1,500AGL/3NM” restricted area exclusion standard. This segmented approach is expected to reduce the overall impact of the LRDR HIRF to civil aviation near PACL. Moreover, the proposal includes a requirement for coordination procedures to be included in a Letter of Procedure (LOP), further ensuring the safe operation of aircraft and preservation of access to the airspace in and around PACL. The LOP would provide that every effort will be made to ensure that emergency aircraft and in-flight emergencies needing access to the proposed special use airspace (SUA) are prioritized and accommodated safely (i.e., by deactivation of the LRDR).

The FAA therefore proposes these restricted areas, seeking a balance between civil aviation activities and the national defense of the United States. The FAA emphasizes that any deviations from FAA Orders are reviewed on a case-by-case basis and reserved for extraordinary circumstances under which the FAA may determine that the national defense benefits of a deviation outweigh the costs of additional airspace mitigations to manage the safe and efficient operation of the NAS and impacts on the access to public use airports by the flying public. The decision to deviate from FAA Order JO 7400.2 in this NPRM is not binding on future determinations by the FAA concerning whether to approve a deviation. Any future requests will be evaluated on their merits, based on the facts and circumstances available at that time and consistent with the FAA's statutory responsibilities.

What activities will take place within R-2206 A through G?

The activity to be performed at Clear AFS within the proposed restricted areas is Ballistic Missile Defense of the United States. System testing is expected to begin in early 2021 and full operational capability, to include integration into the DoD BMDS, is expected to occur in 2022. During the system testing phase, the FAA has agreed to establish 14 CFR 99.7, special security instructions (SSI), implemented as a temporary flight restriction, as an interim airspace mitigation to protect aviation from the HIRF produced by the LRDR system. LRDR is a unique and vital component of the BMDS and will be available continuously both as an early-warning sensor and as an enabler for more effective employment of ground-based interceptors. The LRDR design features high system availability and maintain-while-operate architecture; this ensures that LRDR will be in a continual posture to fight in response to real-word, no-notice events. LRDR also supports additional mission areas including Space Situational Awareness and Intelligence Data Collection.

As proposed, in routine or normal defensive posture, LRDR would operate at reduced HIRF levels within the proposed restricted areas that provide for the “1,500AGL/3NM” restricted area exclusion. This would be accomplished by enforcing main beam elevation limits in the direction of Clear Airport to provide a minimum of 1,500′ AGL under the portions of restricted areas within 3 NM of the airport. Prescheduled maintenance and calibration activities would also occur during Routine or Normal posture and would require activation of the additional proposed restricted areas during a few periods per week for a couple of hours at a time. As proposed, these activities would be scheduled when expected air traffic around Clear Airport is minimal, with scheduled times openly distributed by NOTAM and other outreach mechanisms.

In heightened defensive posture, MDA may require use of all proposed R-2206 restricted areas to conduct missile defense or other activities in response to real-world events. During these periods of heightened defensive posture, LRDR would be activated with access to its full field of coverage, which would necessitate activation of all proposed R-2206 restricted areas; this provides LRDR access to the airspace for defensive actions within 3NM of Clear Airport at and above 400 feet AGL. Besides conducting actual BMDS engagements, LRDR activities that may require temporary activation of all proposed R-2206 restricted areas include BMDS tests, unique intelligence collection activities such as new foreign space launches, or critical space activities such as collision avoidance involving manned space-flight, satellite break-ups, and satellite deorbits.

Required Coordination Between the FAA and MDA

Procedures and preplanned actions would be established between the FAA and the MDA to address emergency or extraordinary events in a Letter of Procedure (LOP). The LOP would address pre-determined NOTAMs to handle the activation and scheduling of the three proposed non-continuous restricted areas (R-2206 D, E, F). The LOP would include procedures for handling national defense no-notice activation from NORAD-USNORTHCOM Command Center, as well as notification times for all other requests, to ensure a NOTAM and notifications to the surrounding areas and aviators can take place with reasonable advance notice prior to activation. Pre-determined actions will provide the framework for rapid adaptation of the SUA to handle extraordinary events.

The following two scenarios are realistic examples of short-notice events and the coordinated response and action that would be taken by FAA and MDA:

(1) Low-altitude restricted areas R-2206D, E, and F (0200-0400 Tuesday, Thursday, and Saturday) have been activated to support a scheduled calibration period; this restricts some of the airspace access into Clear Airport. An aircraft has an in-flight emergency (or is responding to a medivac), needs to land at Clear Airport and the pilot radios the request to air traffic control (ATC). In-flight emergencies have a pre-determined response that allows ATC to contact LRDR and request that the low altitude restricted areas be deactivated so that the aircraft can approach Clear Airport without exposure to excessive HIRF. LRDR defensive posture and current activities allow compliance and the restricted areas are deactivated. FAA informs MDA when the aircraft no longer requires R-2206D, E, and F; and MDA reactivates the restricted areas as the SUA schedule allows.

(2) LRDR is in Routine or Normal posture and low-altitude restricted areas R-2206D, E, and F are disabled or inactive. U.S. Space Command requests that MDA track a satellite due to an on-orbit emergency. The satellite will pass through the LRDR field of view directly behind the Clear Airport, requiring activation of low-altitude restricted areas R-2206D, E, and F to enable low-elevation radar data collection. Based on procedures established via the LOP, MDA notifies ATC of the on-orbit satellite emergency and need to activate the lower restricted areas. FAA activates the restricted areas at the required time and MDA executes the 10 minute satellite track and data collection to completion. MDA then informs ATC that the operation is complete and FAA returns R-2206D, E, and F to an inactive state. As part of the planned response, the FAA would broadcast the status of R-2206D, E, and F to aircraft in the vicinity of PACL airport.

Aviation Considerations

The FAA conducted an aeronautical study to assess the impacts of the USAF proposal for new restricted areas over Clear AFS to support the MDA's LRDR mission. The aeronautical study identified the following aviation impacts and associated changes in procedures, which would be necessary to allow for safe transit of aircraft around R-2206, as proposed to be amended.

Impact on IFR (Instrument Flight Rules) and VFR (Visual Flight Rules) Terminal Ops

The FAA has reviewed the USAF proposal for impact on arrival and departure flows, Standard Terminal Arrival Route (STAR), Standard Instrument Departure (SID), and departure procedures. The following procedures will need to be revised to avoid the proposed R-2206.

MCKINLEY SID—Fairbanks International Airport

PUYVO SID—Fairbanks International Airport

TAGER STAR—Ted Stevens Anchorage International Airport

KROTO STAR—Ted Stevens Anchorage International Airport

Standard Instrument Approach Procedures and Obstacle Departure Procedures: Area Navigation (RNAV) and Global Positioning System (GPS). The following procedures will need to be revised to avoid the proposed R2206.

RNAV (GPS) RWY 15—(Approach) Healy River Airport

RNAV (GPS)-A—(Approach) Healy River Airport

HEALY ONE (RNAV)—(Departure) Healy River Airport

This proposal would leave Healy River Airport with no IFR arrival or departure procedures.

Impact on IFR En-Route Ops

The proposed R-2206 would impact IFR routes between Anchorage and Fairbanks, Alaska, including Jet Route J-125, Victor Airway V-436, and RNAV Route Q-41. The FAA has identified the need for mitigations altering the current airway/route structure to allow for establishing revised airways around the proposed expansion of R-2206. These changes are expected to result in minimal impact to the flying community. The current V-436 airway will need to “bend” around the proposed restricted area due to precipitous terrain and navigational aid confines. This revised airway would allow ground based navigation from Talkeetna, AK, to Fairbanks, AK. J-125 currently navigates from Kodiak, AK, and terminates at Nenana, AK. The segment of the route from Anchorage, AK to Nenana, AK, is primarily used for traffic navigating from Anchorage, AK, to Deadhorse, AK. Because J-115, Q-43, and Q-41provide the same capability as J-125, with minimally increased flight distances, the FAA proposes to delete the segment between Anchorage, AK, and Nenana, AK, of J-125. Q-41 currently navigates from the CAWIN fix, south of Nenana, AK, to Deadhorse, AK. Under this proposal, that route will remain as published, but would require radar due to the proximity to the proposed restricted areas. The FAA proposes to correct any known issues to minimize any impact on the flying public.

The Proposal

The FAA is proposing an amendment to title 14 Code of Federal Regulations (14 CFR) part 73 to rename the established restricted area R-2206 to R-2206A and establish six new restricted areas, to be designated R-2206B, R-2206C, R-2206D, R-2206E, R-2206F, and R-2206G, over Clear AFS at Clear, AK. The proposed new restricted areas would intersect the established R-2206 area above ground level, but would not include the volume defined by current R-2206. The FAA is proposing this action at the request of the USAF. Full legal descriptions are in the “The Proposed Amendment” section of this NPRM.

The proposed restricted areas are described below.⁷

⁷ The FAA has uploaded a graphical depiction of the proposed restricted areas to the docket for this rulemaking.

R-2206A: R-2206 would be amended from R-2206 to R-2206A for ease of charting considering there will be six new restricted areas built upon the original R-2206. R-2206A's eastern boundary is ½ mile west of PACL airport. The altitudes would be from surface to 8,800 feet MSL and would be active on a continuous basis.

R-2206B: R-2206B would be established west of Clear AFS fanning clockwise from the southwest to the northwest excluding the portion within R-2206A. R-2206B's eastern boundary is 3 miles west of PACL airport. The altitudes would be from 1,100 feet MSL to but not including 1,600 feet MSL and would be active on a continuous basis.

R-2206C: R-2206C would be established west of Clear AFS fanning clockwise from the southwest to the northwest excluding the portion within R-2206A. R-2206C's eastern boundary is 3 miles west of PACL airport. The altitudes would be from 1,100 feet MSL to 32,000 feet MSL and would be active on a continuous basis.

R-2206D: R-2206D would be established northeast of Clear AFS fanning clockwise from the northwest to the northeast excluding the portion within R-2206A. R-2206D's eastern boundary is ½ mile west of PACL airport. The altitudes would be from 1,100 feet MSL to but not including 1,600 feet MSL. Activation times would be from 0200-0400 local time, Tuesday, Thursday, and Saturday; other times by NOTAM.

R-2206E: R-2206E would be established northeast of Clear AFS fanning clockwise from the northwest to the northeast excluding the portion within R-2206A. R-2206E's eastern boundary is ½ mile west of PACL airport. The altitudes would be from 1,600 feet MSL to but not including 2,100 feet MSL. Activation times would be from 0200-0400 local time, Tuesday, Thursday and Saturday; other times by NOTAM.

R-2206F: R-2206F would be established northeast of Clear AFS allowing for VFR aircraft to transition along Highway 3, Parks Highway. R-2206F's southern boundary is 3 miles north of PACL airport. The altitudes would be from 2,100 feet MSL to 3,200 feet MSL. Activation times would be from 0200-0400 local time, Tuesday, Thursday and Saturday; other times by NOTAM.

R-2206G: R-2206G would be established northeast of Clear AFS fanning clockwise from the northwest to the northeast excluding the portion within R-2206A and R-2206F. R-2206G's eastern boundary is ½ mile west of PACL airport. The altitudes would be from 2,100 feet MSL to 32,000 feet MSL and would be active on a continuous basis.

Regulatory Notices and Analyses

The FAA has determined that this proposed regulation only involves an established body of technical regulations for which frequent and routine amendments are necessary to keep them operationally current. It, therefore: (1) Is not a “significant regulatory action” under Executive Order 12866; (2) is not “significant” as defined in DOT's Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g), 40103, 40113, 40120; E.O. 10854, 24 FR 9565, 3 CFR, 1959-1963 Comp., p. 389.

§ 73.22 Alaska [Amended]

2. Section 73.22 is amended as follows:

* * * * *

R-2206A Clear, AK [Amended]

Boundaries. Beginning at lat. 64°19′44″ N, long. 149°15′42″ W; to lat. 64°19′44″ N, long. 149°10′18″ W; thence south, 100 feet west of and parallel to the Alaska Railroad to lat. 64°16′17″ N, long. 149°10′14″ W; to lat. 64°16′17″ N, long. 149°15′42″ W; to the point of beginning.

Designated Altitudes. Surface to 8,800 feet MSL.

Time of designation. Continuous.

Controlling agency. FAA, Anchorage ARTCC.

Using agency. Commander 13th Missile Warning Squadron, Clear, AK.

R-2206B Clear, AK [New]

Boundaries. Beginning at lat. 64°20′13″ N, long. 149°13′12″ W; to lat. 64°17′20″ N, long. 149°11′25″ W; to lat. 64°14′31″ N, long. 149°13′43″ W; thence clockwise along a 3.0 NM arc radius centered at lat. 64°17′20″ N, long. 149°11′25″ W; thence to the point of beginning; excluding that portion wholly contained in R-2206A.

Altitudes. 1,000 feet MSL to but not including 1,600′ MSL.

Time of designation. Continuous.

Controlling agency. FAA, Anchorage ARTCC.

Using agency. Commander 13th Missile Warning Squadron, Clear, AK.

R-2206C Clear, AK [New]

Boundaries. Beginning at lat. 64°19′27″ N, long. 149°20′22″ W; thence clockwise along a 4.0 NM arc radius centered at lat. 64°20′22″ N, long. 149°11′25″ W; to lat. 64°23′56″ N, long. 149°15′30″ W; to lat. 64°17′20″ N, long. 149°11′25″ W; to lat. 64°14′10″ N, long. 149°14′01″ W; thence along a 3.0 NM arc radius centered at lat. 64°16′55″ N, long. 149°16′41″ W; to the point of beginning; excluding that portion wholly contained in R-2206A.

Altitudes. 1,600 feet MSL to 32,000 feet MSL.

Time of designation. Continuous.

Controlling agency. FAA, Anchorage ARTCC.

Using agency. Commander 13th Missile Warning Squadron, Clear, AK.

R-2206D Clear, AK [New]

Boundaries. Beginning at lat. 64°20′13″ N, long. 149°13′12″ W; thence clockwise along a 3.0 NM arc radius centered at lat. 64°17′20″ N, long. 149°11′25″ W; to lat. 64°18′47″ N, long. 149°05′23″ W; to lat. 64°17′20″ N, long. 149°11′25″ W; thence to point of beginning; excluding that portion wholly contained in R-2206A.

Altitudes. 1,000 feet MSL to but not including 1,600 feet MSL.

Time of designation. 0200-0400 local time, Tuesday, Thursday and Saturday; other times by NOTAM.

Controlling agency. FAA, Anchorage ARTCC.

Using agency. Commander 13th Missile Warning Squadron, Clear, AK.

R-2206E Clear, AK [New]

Boundaries. Beginning at lat. 64°23′56″ N, long. 149°15′30″ W; thence clockwise along a 4.0 NM arc radius centered at lat. 64°20′22″ N, long. 149°11′25″ W; to lat. 64°19′29″ N, long. 149°02′27″ W; to lat. 64°17′20″ N, long. 149°11′25″ W; thence to point of beginning; excluding that portion wholly contained in R-2206A.

Altitudes. 1,600 feet MSL to but not including 2,100 feet MSL.

Time of designation. 0200-0400 local time, Tuesday, Thursday and Saturday; other times by NOTAM.

Controlling agency. FAA, Anchorage ARTCC.

Using agency. Commander 13th Missile Warning Squadron, Clear, AK.

R-2206F Clear, AK [New]

Boundaries. Beginning at lat. 64°22′07″ N, long. 149°03′09″ W; thence clockwise along the 4.0 NM arc radius centered at lat. 64°20′22″ N, long. 149°11′25″ W; to lat. 64°19′29″ N, long. 149°02′27″ W; to lat. 64°19′19″ N, long. 149°03′07″ W; to lat. 64°19′36″ N, long. 149°03′18″ W; thence north, along a path ½ NM west of Highway 3, Parks Highway.; to lat. 64°21′42″ N, long. 149°03′37″ W; to the point of beginning.

Altitudes. 2,100 feet MSL to 3,200 feet MSL.

Time of designation. 0200-0400 local time, Tuesday, Thursday and Saturday; other times by NOTAM.

Controlling agency. FAA, Anchorage ARTCC.

Using agency. Commander 13th Missile Warning Squadron, Clear, AK.

R-2206G Clear, AK [New]

Boundaries. Beginning at lat. 64°23′56″ N, long. 149°15′30″ W; thence clockwise along a 4.0 NM arc radius centered at lat. 64°20′22″ N, long. 149°11′25″ W; to lat. 64°19′29″ N, long. 149°02′27″ W; to lat. 64°17′20″ N, long. 149°11′25″ W; thence to point of beginning; excluding; (1) that portion wholly contained in R-2206A; (2) that portion wholly contained in R-2206F.

Altitudes. 2,100 feet MSL to 32,000 feet MSL.

Time of designation. Continuous.

Controlling agency. FAA, Anchorage ARTCC.

Using agency. Commander 13th Missile Warning Squadron, Clear, AK.

* * * * *

Issued in Washington, DC, on February 19, 2021.
Mark E. Gauch,
Acting Manager, Rules and Regulations Group.

[FR Doc. 2021-03849 Filed 2-22-21; 11:15 am]

BILLING CODE 4910-13-P